NUCLEAR REGULATORY COMMISSION

[Docket No. 50-400]

Carolina Power & Light Company; Notice of Receipt and Availability of Application for Renewal of Shearon Harris Nuclear Power Plant, Unit 1 Facility Operating License No. NPF-63 for an Additional 20-Year Period

The U.S. Nuclear Regulatory Commission (NRC or Commission) has received an application, dated November 14, 2006, from Carolina Power & Light Company, (doing business as Progress Energy Carolinas, Inc.), filed pursuant to Section 103 of the Atomic Energy Act of 1954, as amended, and Title 10 of the Code of Federal Regulations Part 54 (10 CFR Part 54), to renew the operating license for the Shearon Harris Nuclear Power Plant (HNP), Unit 1. Renewal of the license would authorize the applicant to operate the facility for an additional 20-year period beyond the period specified in the current operating license. The current operating license for HNP, Unit 1, (NPF-63), expires on October 24, 2026. HNP, Unit 1, is a pressurized water reactor designed by Westinghouse Electric Corporation that is located in Wake County, North Carolina. The acceptability of the tendered application for docketing, and other matters including an opportunity to request a hearing, will be the subject of subsequent Federal Register Notices.

Copies of the application are available to the public at the Commission's Public Document Room (PDR), located at One White Flint North, 11555 Rockville Pike, Rockville, Maryland, 20852 or through the internet from the NRC's Agencywide Documents Access and Management System (ADAMS) Public Electronic Reading Room under Accession Number ML063350262. The ADAMS Public Electronic Reading Room is accessible from the NRC Web site at http://www.nrc.gov/reading-rm/adams.html. In addition, the application is available at http://www.nrc.gov/reactors/operating/licensing/renewal/applications.html. Persons who do not have access to the Internet or who encounter problems in accessing the documents located in ADAMS should contact the NRC's PDR reference staff at 1-800-397-4209, extension 4737, or via e-mail to pdr@nrc.gov.

A copy of the license renewal application for the HNP, Unit 1, is also available to local residents near the site at the Eva. H. Perry Library, 2100 Shepherd's Vineyard Drive, Apex, North Carolina 27502.

Dated at Rockville, Maryland, this 5th day of December, 2006.
For the Nuclear Regulatory Commission.
Pao-Tsin Kuo,
Acting Director, Division of License Renewal, Office of Nuclear Reactor Regulation.

[FR Doc. E6-20954 Filed 12-8-06; 8:45 am]

BILLING CODE 7590-01-P